DEPARTMENT OF HOMELAND SECURITY

Coast Guard

[CGD08-04-045]

Houston-Galveston Area Maritime Security Committee

AGENCY: Coast Guard, DHS.

ACTION: Solicitation for membership.

SUMMARY: This notice requests individuals interested in serving on the Houston-Galveston Area Maritime Security Committee (AMSC) to submit their application for membership to the COTP Houston-Galveston. The AMSC advises and assists the Houston-Galveston Federal Maritime Security Coordinator (FMSC) in developing the Area Maritime Security Plan for the Ports of Houston, Texas City, Freeport, and Galveston. Specific vacancies are listed under supplemental information.

DATES: Requests for membership should reach the U.S. Coast Guard Captain of the Port Houston-Galveston on or before February 22, 2005.

ADDRESSES: Applications for membership should be submitted to the Captain of the Port at the following address: MSO Houston-Galveston, AMSC Executive Administrator, P.O. Box 446, Galena Park, TX 77547-0446. AMSC meetings are currently held at the Port of Houston Authority, 111 East Loop, Houston, TX.

FOR FURTHER INFORMATION CONTACT: For questions about submitting an application or about the AMSC in general, contact Ms. Tobi Moore, AMSC Executive Administrator, at 713-671-5118.

SUPPLEMENTARY INFORMATION:

Authority

Section 102 of the Maritime Transportation Security Act (MTSA) of 2002 (Pub. L. 107-295) added section 70112 to Title 46 of the U.S. Code, and authorizes the Secretary of the Department in which the Coast Guard is operating to establish AMSCs for any port area of the United States. (See 33 U.S.C. 1226; 46 U.S.C Chapter 701; 33 CFR 1.05-1, 6.01; Department of Homeland Security Delegation No. 0170.1). The MTSA includes a provision exempting these AMSCs from the Federal Advisory Committee Act (FACA), Public Law 92-436, 86 Stat. 470 (5 U.S.C. App.2).

The AMSCs shall assist the FMSC in the review and update of the AMS Plan for the Houston, Galveston, Freeport and Texas City area of responsibility. Such matters may include, but are not limited to: Identifying critical port infrastructure and operations; Identifying risks (threats, vulnerabilities, and consequences); Determining mitigation strategies and implementation methods; Developing and describing the process to continually evaluate overall port security by considering consequences and vulnerabilities, how they may change over time, and what additional mitigation strategies can be applied; and Providing advice to, and assisting the FMSC in, reviewing and updating the Houston-Galveston Area Maritime Security Plan.

AMS Committee Membership

At least seven of the members of the AMSC must have at least five years of experience related to maritime or port security operations. We are seeking to fill the following vacancies with this solicitation:

(1) Texas City Port Police representative primary and alternate;

(2) Galveston Port Police representative, alternate;

(3) Freeport Port Police representative, primary and alternate;

(4) Galveston and Harris County Law Enforcement representative, primary and alternate (other counties surrounding waterways are eligible);

(5) Trucking industry, primary;

(6) Offshore carriers, alternate; and

(7) City Police Department—multiple opportunities (any city surrounding waterways are eligible) primary and alternate.

Applicants may be required to pass an appropriate security background check prior to appointment to the committee.

Members' terms of office will be for five years; however, a member is eligible to serve an additional term or office. Members serve voluntarily and will not receive any salary or other compensation for their service on the AMS Committee from the Federal Government.

In support of the policy of the USCG on gender and ethnic diversity, we encourage qualified women and members of minority groups to apply.

Meetings

The AMSC meets the last Thursday of odd-numbered months. Subcommittees and work groups convene between meetings of the parent committee. AMSC meetings start at 9 a.m. and are currently held at the Port of Houston Authority, 111 East Loop, Houston, TX.

Request for Applications

It is requested that applicants possess experience related to maritime or port security operations. Those seeking membership are not required to submit formal applications to the local FMSC, however, because we do have an obligation to ensure that a specific number of members have the prerequisite maritime security experience, we encourage the submission of resumes highlighting experience in the maritime and security industries.

Dated: December 28, 2004.
Kevin L. Marshall,
Captain, U.S. Coast Guard, Acting Commander, 8th Coast Guard Dist.

[FR Doc. 05-1150 Filed 1-19-05; 8:45 am]

BILLING CODE 4910-15-P